DEPARTMENT OF TRANSPORTATION

Federal Railroad Administration

[Docket Number FRA-2019-0090]

Petition for Waiver of Compliance

Under part 211 of title 49 Code of Federal Regulations (CFR), this document provides the public notice that on November 12, 2019, Norfolk Southern Corporation (NS) petitioned the Federal Railroad Administration (FRA) for a waiver of compliance from certain provisions of the Federal railroad safety regulations contained at 49 CFR part 232, Brake System Safety Standards for Freight and Other Non-Passenger Trains and Equipment. FRA assigned the petition Docket Number FRA-2019-0090.

Specifically, NS seeks relief from § 232.305(b)(2), which requires a single car air brake test (SCABT) when a “car is on a shop or repair track . . . for any reason and has not received a [SCABT] within the previous 12-month period.” NS requests to replace FRA-condemnable and other non-condemnable wheelsets on railcars as part of an in-train wheelset replacement program, without performing the required SCABT. NS explains that railcars due for 5- and 8-year SCABTs would still be addressed. The NS system alert notifications are viewable to NS repair personnel for railcars that are due SCABTs. NS asks that this relief apply to all NS unit trains receiving in-train wheel replacement as part of NS's in-train wheelset replacement program, on two designated tracks at the NS railyard in Bluefield, West Virginia.

NS desires to implement this program to proactively identify and replace wheelsets. In-train wheelset replacements can be done by NS mechanical forces in as little as 15 minutes with no need to remove the cars from trains. This reduces the number of switching events that would otherwise be required to repair cars, reducing the risk of injury and derailment. Additionally, in-train wheelset replacement will permit NS to replace a greater percentage of wheelsets than those currently replaced using traditional techniques.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by January 9, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2019-25423 Filed 11-22-19; 8:45 am]

BILLING CODE 4910-06-P